FEDERAL COMMUNICATIONS COMMISSION

47 CFR Part 73

[MM Docket No. 02-277; DA 04-320]

Additional Comment Sought on UHF Television Discount

AGENCY: Federal Communications Commission.

ACTION: Final rule; request for comments.

SUMMARY: In light of recent legislation affecting the national television ownership limit, this document establishes a limited comment period to afford petitioners and commenters an opportunity to update the record regarding the Commission's previous decision to retain the 50 percent UHF discount. Pending petitions for reconsideration urge the Commission to eliminate the UHF discount. The limited comment period is intended to afford petitioners and commenters an opportunity to update the record as to the effect, if any, of recent legislation on the Commission's authority and decision in this area.

DATES: Submit comments on or before March 19, 2004, and reply comments on or before March 29, 2004.

ADDRESSES: 445 12th Street, SW., Washington, DC.

FOR FURTHER INFORMATION CONTACT: Debra Sabourin or Patrick Webre, Industry Analysis Division, Media Bureau, 202-418-2330.

SUPPLEMENTARY INFORMATION:

Synopsis of the Order on Reconsideration

1. On June 2, 2003, the Commission adopted the 2002 Biennial Regulatory Review Report and Order in this proceeding. (In the Matter of 2002 Biennial Regulatory Review—Review of the Commission's Broadcast Ownership Rules and Other Rules Adopted Pursuant to Section 202 of the Telecommunications Act of 1996, Cross-Ownership of Broadcast Stations and Newspapers, Rules and Policies Concerning Multiple Ownership of Radio Broadcast Stations in Local Markets, Definition of Radio Markets, and Definition of Radio Markets for Areas Not Located in an Arbitron Survey Area (Report and Order), 68 FR 46286, August 5, 2003, appeal pending sub nom. Prometheus Radio Project, et al. v. FCC, Nos. 03-3388, et al. (3d Cir.). The rule changes adopted in the Report and Order were stayed by the U.S. Court of Appeals for the Third Circuit and did not go into effect.) Among other things, the Report and Order raised the Commission's national television multiple ownership limit (47 CFR 73.3555(e)) from 35 percent to 45 percent. The Report and Order also retained the Commission's 50 percent UHF discount.

2. On January 22, 2004, President Bush signed into law the Consolidated Appropriations Act, 2004, H.R. 2673. (Consolidated Appropriations Act, 2004, Public Law 108-199, section 629, 118 Stat. 3 (2004) (Appropriations Act). Section 629(1) of the Appropriations Act amends Section 202(c) of the Telecommunications Act of 1996 (Telecom Act), and directs the Commission to modify the national television ownership limit to 39 percent. Pending petitions for reconsideration ask the Commission to reconsider its decision to retain the UHF discount, urging its immediate elimination.¹ We are opening a limited comment period in order to afford petitioners and commenters an opportunity to update the record as to the effect, if any, of the Appropriations Act on our authority and decision in this area. We invite comment as to whether the enactment of the 39 percent national cap affects our authority to modify or eliminate the UHF discount. For example, does passage of the 39 percent cap signify congressional approval, adoption, or ratification of the 50 percent UHF discount?

¹ See petitions for reconsideration filed by the Amherst Alliance and Virginia Center for the Public Press; Capitol Broadcasting Company, Inc.; and Office of Communication of the United Church of Christ, Inc., Black Citizens for a Fair Media, Philadelphia Lesbian and Gay Task Force, and Women's Institute for Freedom of the Press (UCC, et al.) The full text of the petitions for reconsideration, the oppositions, and the replies is available electronically at http//www.fcc.gov/cgb/ecfs under MB Docket No. 02-277, or from the Commission's duplicating contractor, Qualex International, 445 12th Street, SW., Room CY-B402, Washington, DC 20554, (202) 863-2893.

3. Comments must be filed on or before March 19, 2004; and reply comments must be filed by March 29, 2004. Comments and reply comments may be filed using the Commission's Electronic Filing System (ECFS) or by filing paper copies (an original and four copies). See Electronic Filing of Documents in Rulemaking Proceedings, 63 FR 24121 (1998). All comments should reference MB Docket No. 02-277. The Commission incorporates by reference the Initial Regulatory Flexibility Analysis published in the Notice of Proposed Rulemaking in this proceeding. (2002 Biennial Regulatory Review—Review of the Commission's Broadcast Ownership Rules and Other Rules adopted Pursuant to Section 202 of the Telecommunications Act of 1996, Cross-Ownership of Broadcast Stations and Newspapers, Rules and Policies Concerning Multiple Ownership of Radio Broadcast Stations in Local Markets, Definition of Radio Markets, 67 FR 65751, October 28, 2002, 17 FCC Rcd 18503, Appendix A.)

4. Comments filed through the ECFS can be sent as an electronic file via the Internet to http://www.fcc.gov/e-file/ecfs.html. Generally, only one copy of an electronic submission must be filed. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form.” A sample form and directions will be sent in reply. Parties who choose to file by paper must file an original and four copies of each filing. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

5. Availability of Documents. Comments, reply comments, and ex parte submissions will be available for public inspection during regular business hours in the FCC Reference Center, Federal Communications Commission, 445 12th Street, SW., CY-A257, Washington, DC 20554. These documents also will be available electronically from the Commission's Electronic Comment Filing System. Documents are available electronically in ASCII text, Word 97, and Adobe Acrobat. Copies of filings in this proceeding may be obtained from Qualex International, Portals II, 445 12th Street, SW., Room, CY-B402, Washington, DC 20554, telephone (202) 863-2893, facsimile (202) 863-2898, or via e-mail at qualexint@aol.com. To request materials in accessible formats for people with disabilities (Braille, large print, electronic files, audio format), send an e-mail to fcc504@fcc.gov or call the Consumer and Governmental Affairs Bureau at 202-418-0531 (voice), 202-418-7365 (TTY).

List of Subjects in 47 CFR Part 73

Television.

Federal Communications Commission.
W. Kenneth Ferree,
Chief, Media Bureau.

[FR Doc. 04-4391 Filed 2-26-04; 8:45 am]

BILLING CODE 6712-01-P